FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel-Operating Common Carrier Ocean Transportation Intermediary Applicants:

Arrow Speed Line, Inc., 9550 Flair Drive, Ste. 532, El Monte, CA 91731. Officer: Ting Ting Susanna Kan, President (Qualifying Individual).

Batista Cargo Inc., 4963 Broadway Ave., New York, NY 10034. Officers: Santiago Batista, President (Qualifying Individual). Saurys A. Batista, Secretary.

BA Global Inc. dba Shipsafe, 1315 E. Abram Street, Arlington, TX 76010. Officer: Abdulla O. Abdulla, President (Qualifying Individual).

MJ Group Limited—Morgan Jones, LLC, 1201 Corbin Street, Elizabeth, NJ 07201. Officer: Estrella I. Rodriguez, President (Qualifying Individual).

Commercial Freight and Logistics Pty Ltd., 8 Northumberland Road, Tarren Point, Australia. Officers: Stephen P. Scott, Queensland Manager (Qualifying Individual). Bernard Flynn, Director.

Machinery and Parts, Inc. dba Express Line, 6045 NW 87th Ave., Suite 4, Miami, FL 33178. Officer: Hector J. Vega, President (Qualifying Individual).

Dafrate LLC, 11 Hunters Path, Skillman, NJ 08558. Officer: Polina Trubetskoy, President (Qualifying Individual).

Magic Freight Systems, Inc., 2410 S. Sierra Drive, Suite 202, Compton, CA 90220. Officer: Jae H. Juhn, President (Qualifying Individual).

Non-Vessel-Operating Common Carrier and Ocean Freight Forwarder Transportation Intermediary Applicants:

Inter American Moving Services, Inc., dba Inter American Moving, 3650 NW 74 Street, Miami, FL 33147. Officer: Terrence A. Rignault, President (Qualifying Individual).

Global Alliance Corporation Ltd. dba Global Alliance Line, 9550 Flair Drive, Ste. 212, El Monte, CA 91731. Officer: Rong Xia (Regina) Wang, Vice President (Qualifying Individual).

Arnold Moving Company, Inc. dba Sterling International, 5200 Interchange Way, Louisville, KY 40229. Officer: Richard L. Russell, President (Qualifying Individual).

ALG Global Logistics, Inc., 400 Continental Boulevard, #600, El Segundo, CA 90245. Officer: Lorrie Vidal, CEO (Qualifying Individual).

Cargo America, Inc., 332 S. Wayside Drive, Houston, TX 77011. Officer: Mohamed F. Elkhodiry, President (Qualifying Individual).

Lion Xpress, Inc., 8345 NW 68 St., Miami, FL 33166. Officers: Julio A. Leon, President (Qualifying Individual). Angel O. Leon, Vice President.

Ocean Freight Forwarder—Ocean Transportation Intermediary Applicants:

The Irwin Brown Company, 212 Chartres Street, New Orleans, LA 70130. Officer: Sheldon Bernstein, President (Qualifying Individual).

WISEnterprises N.J., LLC, 6 Kings Highway, 2nd Floor, Middletown, NJ 07748. Officer: Janet Turner, Member (Qualifying Individual).

RM Shipping & Customs, Inc., 1710 SW 99 Terrance, Miramar, FL 33025. Officers: Yissel M. Munoz, President (Qualifying Individual). Albin J. Roman, Vice President.

Jumbo Cargo Inc., 5560 NW 84 Ave., Doral, FL 33166. Officer: Emilio Gonzalez, President (Qualifying Individual).

Aro Transport, Inc., 2001 Cornell, Melrose Park, IL 60160. Officer: Anna Kosman, President (Qualifying Individual).

PB Direct Corporation, 700 Bishop Street, #2100, Honolulu, HI 96813. Officers: Maria Elisa Estrada, Vice President (Qualifying Individual). Emiko K. Singh, President.

G&L Freight Forwarders, LLC, 200 Crofton Rd., Bldg. 14A, Kenner, LA 70063. Officers: Gary J. Cheramie, President (Qualifying Individual). Linda A. Cheramie, Treasurer.

Dated: June 18, 2009.
Karen V. Gregory,
Secretary.

[FR Doc. E9-14876 Filed 6-23-09; 8:45 am]

BILLING CODE 6730-01-P